DEPARTMENT OF THE TREASURY

Office of Foreign Assets Control

Publication of General Licenses Related to the Burma Sanctions Program

AGENCY: Office of Foreign Assets Control, Treasury.

ACTION: Notice, publication of general licenses.

SUMMARY: The U.S. Department of the Treasury's Office of Foreign Assets Control (“OFAC”) is publishing General License No. 18 and General License No. 19 issued under the Burma sanctions program on November 16, 2012, and February 22, 2013, respectively. General License No. 18 authorizes the importation into the United States of any article that is a product of Burma, subject to certain limitations. General License No. 19 authorizes transactions involving Asia Green Development Bank, Ayeyarwady Bank, Myanma Economic Bank, and Myanma Investment and Commercial Bank, subject to certain limitations.

DATES: Effective Dates: November 16, 2012, for General License No. 18 and February 22, 2013, for General License No. 19.

FOR FURTHER INFORMATION CONTACT: Assistant Director for Sanctions Compliance & Evaluation, tel.: 202-622-2490, Assistant Director for Licensing, tel.: 202-622-2480, Assistant Director for Regulatory Affairs, tel.: 202-622-4855, Assistant Director for Policy, tel.: 202-622-2746, Office of Foreign Assets Control, or Chief Counsel (Foreign Assets Control), tel.: 202-622-2410, Office of the General Counsel, Department of the Treasury (not toll free numbers).

SUPPLEMENTARY INFORMATION:

Electronic and Facsimile Availability

This document and additional information concerning OFAC are available from OFAC's Web site (www.treasury.gov/ofac). Certain general information pertaining to OFAC's sanctions programs also is available via facsimile through a 24-hour fax-on-demand service, tel.: 202/622-0077.

Background

The Department of State, pursuant to a delegation of authority from the President, has waived the ban on the importation of products of Burma set forth in section 3(a) of the Burmese Freedom and Democracy Act of 2003 (“BFDA”) and implemented by Executive Order 13310 of July 28, 2003.

Consistent with this waiver, on November 16, 2012, OFAC issued General License No. 18 (“GL 18”) authorizing the importation into the United States of any article that is a product of Burma, subject to certain limitations. GL 18 does not authorize the importation into the United States of jadeite or rubies mined or extracted from Burma, or of articles of jewelry containing jadeite or rubies mined or extracted from Burma, or any other activity prohibited by Section 3A of the BFDA, an amendment added by the Tom Lantos Block Burmese JADE (Junta's Anti-Democratic Efforts) Act of 2008. GL 18 also does not authorize transactions with any person whose property and interests in property are blocked under the Burma sanctions program.

On February 22, 2013, OFAC issued General License No. 19 (“GL 19”) authorizing U.S. persons to conduct most transactions, including opening and maintaining accounts and conducting a range of other financial services, with four blocked Burmese financial institutions: Asia Green Development Bank, Ayeyarwady Bank, Myanma Economic Bank, and Myanma Investment and Commercial Bank. Among other limitations, GL 19 does not unblock any property or interests in property or authorize transactions involving any other person blocked under the Burma sanctions program.

With this notice, OFAC is publishing General License No. 18 and General License No. 19 in the Federal Register.

General License No. 18

Authorizing the Importation of Products of Burma

(a) The importation into the United States of any article that is a product of Burma is authorized, subject to the limitations set forth in paragraphs (c) and (e) of this general license.

(b) For the purposes of this general license, the term product of Burma means goods of Burmese origin pursuant to rules of origin of U.S. Customs and Border Protection.

(c) This general license does not authorize the importation into the United States of jadeite or rubies mined or extracted from Burma, or of articles of jewelry containing jadeite or rubies mined or extracted from Burma or any other activity prohibited by Section 3A of the Burmese Freedom and Democracy Act of 2003 (Pub. L. 108-61), as amended by the Tom Lantos Block Burmese JADE (Junta's Anti-Democratic Efforts) Act of 2008 (Pub. L. 110-286).

(d) For the purposes of this general license, the term jadeite means any jadeite classifiable under chapter heading 7103 of the Harmonized Tariff Schedule of the United States (“HTS”); the term rubies means any rubies classifiable under chapter heading 7103 of the HTS; and the term articles of jewelry containing jadeite or rubies means any article of jewelry classifiable under chapter heading 7113 of the HTS that contains jadeite or rubies, or any article of jadeite or rubies classifiable under chapter heading 7116 of the HTS.

(e) This general license does not authorize transactions with, directly or indirectly, any person whose property and interests in property are blocked pursuant to 31 CFR 537.201(a), Executive Order 13448 of October 18, 2007, Executive Order 13464 of April 30, 2008, or Executive Order 13619 of July 11, 2012.

Note 1 to General License No. 18: The reimportation into the United States of jadeite, rubies, and articles of jewelry containing jadeite or rubies that were previously exported from the United States, including those that accompanied an individual outside the United States for personal use, if they are reimported into the United States by the same person who exported them, without having been advanced in value or improved in condition by any process or other means while outside the United States, is not prohibited. See 19 CFR 12.151.

Note 2 to General License No. 18: The importation into the United States of jadeite or rubies mined or extracted from a country other than Burma, or of articles of jewelry containing jadeite or rubies mined or extracted from a country other than Burma, is prohibited unless such importation satisfies the conditions set forth in 19 CFR § 12.151.

Issued: November 16, 2012.

General License No. 19

General License With Respect to Asia Green Development Bank, Ayeyarwady Bank, Myanma Economic Bank, and Myanma Investment and Commercial Bank

(a) Effective February 22, 2013, all transactions involving Asia Green Development Bank, Ayeyarwady Bank, Myanma Economic Bank, and Myanma Investment and Commercial Bank are authorized, subject to the limitations set forth below.

(b) This general license does not authorize transactions involving any person other than Asia Green Development Bank, Ayeyarwady Bank, Myanma Economic Bank, and Myanma Investment and Commercial Bank whose property and interests in property are blocked pursuant to 31 CFR 537.201(a), Executive Order 13448 of October 18, 2007, Executive Order 13464 of April 30, 2008, or Executive Order 13619 of July 11, 2012.

(c) This general license does not authorize, in connection with the provision of security services, the exportation or reexportation of financial services, directly or indirectly, to the Burmese Ministry of Defense, including the Office of Procurement; any state or non-state armed group; or any entity in which any of the foregoing own a 50 percent or greater interest.

(d) This general license does not authorize any new investment, as defined in 31 CFR 537.311, including in or with Asia Green Development Bank, Ayeyarwady Bank, Myanma Economic Bank, or Myanma Investment and Commercial Bank.

(e) This general license does not authorize the importation into the United States of jadeite or rubies mined or extracted from Burma, or of articles of jewelry containing jadeite or rubies mined or extracted from Burma or any other activity prohibited by Section 3A of the Tom Lantos Block Burmese JADE (Junta's Anti-Democratic Efforts) Act of 2008 (Public Law 110-286).

(f) All property and interests in property blocked pursuant to 31 CFR 537.201(a), Executive Order 13448 of October 18, 2007, Executive Order 13464 of April 30, 2008, or Executive Order 13619 of July 11, 2012, remain blocked.

Note to General License No. 19: As a result of this general license, the special measures against Burma imposed under Section 311 of the USA PATRIOT Act (Public Law 107-56) no longer apply to the operation of correspondent accounts for Asia Green Development Bank, Ayeyarwady Bank, Myanma Economic Bank, and Myanma Investment and Commercial Bank, or to transactions that are conducted through such accounts, provided the transactions are authorized pursuant to the Burmese Sanctions Regulations. See 31 CFR § 1010.651(b)(3). This general license does not affect any obligation of U.S. financial institutions processing such transactions to conduct enhanced due diligence under Section 312 of the USA PATRIOT Act.

Issued: February 22, 2013.

Dated: April 4, 2013.
Adam J. Szubin,
Director, Office of Foreign Assets Control.

[FR Doc. 2013-08361 Filed 4-9-13; 8:45 am]

BILLING CODE 4810-AL-P